DEPARTMENT OF JUSTICE

Federal Bureau of Investigation

[OMB Number 1110-0008]

Agency Information Collection Activities; Proposed Collection; Comments Requested; Extension of a Currently Approved Collection: Monthly Return of Arson Offenses Known to Law Enforcement

ACTION: 60-Day notice.

The Department of Justice, Federal Bureau of Investigation, Criminal Justice Information Services Division will be submitting the following information collection request to the Office of Management and Budget (OMB) for review and clearance in accordance with established review procedures of the Paperwork Reduction Act of 1995. The proposed information collection is published to obtain comments from the public and affected agencies. Comments are encouraged and will be accepted until October 8, 2013.

This process is conducted in accordance with 5 CFR 1320.10.

All comments, suggestions, or questions regarding additional information, to include obtaining a copy of the proposed information collection instrument with instructions, should be directed to Mrs. Amy C. Blasher, Unit Chief, Federal Bureau of Investigation, Criminal Justice Information Services (CJIS) Division, Module E-3, 1000 Custer Hollow Road, Clarksburg, West Virginia 26306, or facsimile to (304) 625-3566.

Written comments and suggestions from the public and affected agencies concerning the proposed collection of information are encouraged. Comments should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques of other forms of information technology, e.g., permitting electronic submission of responses.

Overview of this information collection:

(1) Type of information collection: Extension of a currently approved collection.

(2) The title of the form/collection: Monthly Return of Arson Offenses Known to Law Enforcement

(3) The agency form number, if any, and the applicable component of the department sponsoring the collection: Form 1-725; Criminal Justice Information Services Division, Federal Bureau of Investigation, Department of Justice.

(4) Affected public who will be asked or required to respond, as well as a brief abstract: Primary: City, county, state, tribal, and federal law enforcement agencies. Under Title 28, U.S. Code, Section 534, Acquisition, Preservation, and Exchange of Identification Records; Appointment of Officials, 1930, and the Anti-Arson Act of 1982 this collection requests the number of arson from city, county, state, tribal, and federal law enforcement agencies in order for the FBI UCR Program to serve as the national clearinghouse for the collection and dissemination of arson data and to publish these statistics in the Preliminary Reports and Crime in the United States.

(5) An estimate of the total number of respondents and the amount of time estimated for an average respondent to respond: There are a potential of 18,233 law enforcement agency respondents; calculated estimates indicate 9 minutes per copy response.

(6) An estimate of the total public burden (in hours) associated with this collection: There are approximately 20,866 hours, annual burden, associated with this information collection.

If additional information is required contact: Jerri Murray, Department Clearance Officer, Policy and Planning Staff, Justice Management Division, United States Department of Justice, Two Constitution Square, 145 N Street NE., Room 3W-1407B, Washington, DC 20530.

Dated: August 6, 2013.
Jerri Murray,
Department Clearance Officer for PRA, United States Department of Justice.

[FR Doc. 2013-19319 Filed 8-8-13; 8:45 am]

BILLING CODE 4410-02-P